DEPARTMENT OF LABOR

Employment and Training Administration

[TA-W-72,710]

EDS, HP Company, Fairfield Township, OH; Notice of Termination of Investigation

Pursuant to Section 223 of the Trade Act of 1974, as amended, an investigation was initiated in response to a petition filed on October 29, 2009 by the State on behalf of workers of EDS, HP Company, Fairfield Township, Ohio.

The petitioners have requested that the petition be withdrawn. Consequently, the investigation has been terminated.

Signed at Washington, DC, this 12th day of January 2010.
Elliott S. Kushner,
Certifying Officer, Division of Trade Adjustment Assistance.

[FR Doc. 2010-5357 Filed 3-11-10; 8:45 am]

BILLING CODE 4510-FN-P